DEPARTMENT OF DEFENSE

Office of the Secretary

Base Closure and Community Redevelopment and Homeless Assistance Act; Base Realignments and Closures

AGENCY: Department of Defense, Office of Economic Adjustment.

ACTION: Notice.

SUMMARY: This Notice is provided pursuant to section 2905(b)(7)(B)(ii) of the Defense Base Closure and Realignment Act of 1990. It provides a partial list of military installations closing or realigning pursuant to the 2005 Defense Base Closure and Realignment (BRAC) Report. It also provides a corresponding listing of the Local Redevelopment Authorities (LRAs) recognized by the Secretary of Defense, acting through the Department of Defense Office of Economic Adjustment (OEA), as well as the points of contact, addresses, and telephone numbers for the LRAs for those installations. Representatives of state and local governments, homeless providers, and other parties interested in the redevelopment of an installation should contact the person or organization listed. The following information will also be published simultaneously in a newspaper of general circulation in the area of each installation. There will be additional Notices providing this same information about LRAs for other closing or realigning installations where surplus government property is available as those LRAs are recognized by the OEA.

DATES: Effective Date: February 7, 2006.

FOR FURTHER INFORMATION CONTACT: Director, Office of Economic Adjustment, Office of the Secretary of Defense, 400 Army Navy Drive, Suite 200, Arlington, VA 22202-4704, (703) 604-6020.

Local Redevelopment Authorities (LRA's) for Closing and Realigning Military Installations

California

Installation Name: Naval Weapons Station Seal Beach Detachment Concord.

LRA Name: City of Concord.

Point of Contact: Mr. James Forsberg, Director of Planning and Economic Development, City of Concord.

Address: 1950 Parkside Drive, MS/1B, Concord, CA 94519-2578.

Phone: (925) 671-3383.

Georgia

Installation Name: Fort McPherson.

LRA Name: McPherson Planning Local Redevelopment Authority.

Point of Contact: Mr. Felker Ward, Chair, McPherson Planning Local Redevelopment Authority.

Address: 86 Pryor Street, Atlanta, GA 30303-3131.

Phone: (404) 614-8298.

Installation Name: Naval Air Station Atlanta.

LRA Name: NAS Atlanta Local Redevelopment Authority.

Point of Contact: Mr. Bob Elsberry, Chairman, NAS Atlanta Local Redevelopment Authority.

Address: P.O. Box 671868, Marietta, GA 30006.

Phone: (770) 859-2342.

Installation Name: Navy Supply Corps School Athens.

LRA Name: Navy Supply Corps School Local Redevelopment Authority.

Point of Contact: Mr. Buddy Allen, Chairman, Navy Supply Corps School Local Redevelopment Authority.

Address: 2595 Atlanta Highway, Athens, GA 30604.

Phone: (706) 549-0706.

Kansas

Installation Name: Kansas Army Ammunition Plant.

LRA Name: Kansas Army Ammunition Plant Local Redevelopment Planning Authority.

Point of Contact: Mr. Brian C. Kinzie, Chairman, Labette County Commission.

Address: P.O. Box 387, Oswego, KS 67356.

Phone: (620) 795-2138.

Maine

Installation Name: Naval Air Station Brunswick.

LRA Name: Brunswick Local Redevelopment Authority.

Point of Contact: Mr. Mathew Eddy.

Address: 28 Federal Street, Brunswick, ME 04011.

Phone: (207) 721-0793.

Installation Name: Naval Air Station Brunswick (Topsham Annex).

LRA Name: Topsham Local Redevelopment Authority.

Point of Contact: Mr. Gary Brown, Town Manager, Town of Topsham.

Address: 22 Elm Street, Topsham, ME 04086.

Phone: (207) 725-5821.

Texas

Installation Name: Red River Army Depot.

LRA Name: Red River Redevelopment Authority.

Point of Contact: Mr. Denis Washington, President, Board of Directors, Red River Redevelopment Authority.

Address: 107 Chapel Lane, New Boston, TX 75570.

Phone: (903) 223-9841.

Installation Name: Lone Star Army Ammunition Plant.

LRA Name: Red River Redevelopment Authority.

Point of Contact: Mr. Denis Washington, President, Board of Directors, Red River Redevelopment Authority.

Address: 107 Chapel Lane, New Boston, TX 75570.

Phone: (903) 223-9841.

Virginia

Installation Name: Fort Monroe.

LRA Name: Federal Area Development Authority.

Point of Contact: Mr. Brian DeProfio, Assistant to the City Manager, City of Hampton.

Address: 22 Lincoln Street—8th Floor, Hampton, VA 23669.

Phone: (757) 727-6884.

February 1, 2006.
L.M. Bynum,
OSD Federal Register Liaison Officer, Department of Defense.

[FR Doc. E6-1590 Filed 2-6-06; 8:45 am]

BILLING CODE 5001-06-P